DEPARTMENT OF THE INTERIOR

Bureau of Land Management

[LLCAN00000.L18200000.XZ0000]

Notice of Public Meeting: Northeast California Resource Advisory Council

AGENCY: Bureau of Land Management, Interior.

ACTION: Notice of Public Meeting.

SUMMARY: In accordance with the Federal Land Policy and Management Act of 1976 (FLPMA), and the Federal Advisory Committee Act of 1972 (FACA), the U. S. Department of the Interior, Bureau of Land Management (BLM) Northeast California Resource Advisory Council will meet as indicated below.

DATES: The committee will meet Wednesday and Thursday, Nov. 7-8, 2012, in Alturas, California. On Nov. 7, the RAC will convene at 10 a.m. at the Bureau of Land Management Alturas Field Office, 708 W. 12th St., and depart immediately for a field tour. Members of the public are welcome. They must provide their own transportation in high clearance vehicles, food and beverages. On Nov. 8, the council meeting begins at 8 a.m. in the Conference Room of the BLM Alturas Field Office. The public is welcome.

FOR FURTHER INFORMATION CONTACT: Nancy Haug, BLM Northern California District manager, (530) 224-2160; or Joseph J. Fontana, BLM public affairs officer, (530) 252-5332.

SUPPLEMENTARY INFORMATION: The 15-member council advises the Secretary of the Interior, through the BLM, on a variety of planning and management issues associated with public land management in northeast California and the northwest corner of Nevada. Agenda items at this meeting include an update on the Bly Tunnel at Eagle Lake, a status report on the proposed Horse Lake wind energy project, a status report on the BLM's sage grouse conservation strategy, updates on proposed wild horse gathers, a status report on management of the Surprise Field Office, a report on BLM acquisition of PG&E lands, a status report on proposed geothermal energy development proposals in the Medicine Lake Highlands, and an update on management decisions in the Homecamp grazing allotment. Public comments will be accepted at 11 a.m. Depending on the number of persons wishing to speak, and the time available, the time for individual comments may be limited. Individuals who plan to attend and need special assistance, such as sign language interpretation and other reasonable accommodations, should contact the BLM as provided above.

Dated: September 12, 2012.
Joseph J. Fontana,
Public Affairs Officer.

[FR Doc. 2012-24124 Filed 9-28-12; 8:45 am]

BILLING CODE 4310-40-P